DEPARTMENT OF VETERANS AFFAIRS

[OMB Control No. 2900-0252]

Agency Information Collection Activity: Application for Authority to Close Loans on an Automatic Basis Nonsupervised Lenders (VA Form 26-8736)

AGENCY: Loan Guaranty Service, Veterans Benefits Administration.

ACTION: Notice.

SUMMARY: In compliance with the Paperwork Reduction Act (PRA) of 1995, this notice announces that the Loan Guaranty Service, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0252.

SUPPLEMENTARY INFORMATION:

Authority: Public Law 104-13; 44 U.S.C. 3501-3521.

Title: Application for Authority to Close Loans on an Automatic Basis Nonsupervised Lenders (VA Form 26-8736).

OMB Control Number: 2900-0252.

Type of Review: Extension of an approved collection.

Abstract: VA Form 26-8736 is used by non-supervised lenders requesting approval to close loans on an automatic basis. The form contains information and data considered crucial for making acceptability determinations as to lenders who shall be approved for this privilege. Upon receipt of the form, the VA Regional Loan Centers will process and evaluate the information. They will then advise the lender-applicant of their decision. Without this information, VA would not be able to determine if lender-applicants meet the qualifications for processing loans on an automatic basis.

An agency may not conduct or sponsor, and a person is not required to respond to a collection of information unless it displays a currently valid OMB control number. The Federal Register Notice with a 60-day comment period soliciting comments on this collection of information was published on March 4, 2020 at 85 FR 12823, page 12823.

Affected Public: Individuals or households.

Estimated Annual Burden: 50 hours.

Estimated Average Burden per Respondent: 25 minutes.

Frequency of Response: One time.

Estimated Number of Respondents: 120.

By direction of the Secretary.
Danny S. Green,
VA PRA Clearance Officer, Office of Quality, Performance and Risk Department of Veterans Affairs.

[FR Doc. 2020-10319 Filed 5-13-20; 8:45 am]

BILLING CODE 8320-01-P